COMMITTEE FOR PURCHASE FROM PEOPLE WHO ARE BLIND OR SEVERELY DISABLED

Procurement List; Proposed additions

AGENCY: Committee for Purchase From People Who Are Blind or Severely Disabled.

ACTION: Proposed Additions to the Procurement List.

SUMMARY: The Committee is proposing to add product(s) and service(s) to the Procurement List that will be furnished by nonprofit agencies employing persons who are blind or have other severe disabilities.

DATES: Comments must be received on or before: February 14, 2021.

ADDRESSES: Committee for Purchase From People Who Are Blind or Severely Disabled, 1401 S. Clark Street, Suite 715, Arlington, Virginia, 22202-4149.

FOR FURTHER INFORMATION CONTACT: For further information or to submit comments contact: Michael R. Jurkowski, Telephone: (703) 603-2117, Fax: (703) 603-0655, or email CMTEFedReg@AbilityOne.gov.

SUPPLEMENTARY INFORMATION: This notice is published pursuant to 41 U.S.C. 8503 (a)(2) and 41 CFR 51-2.3. Its purpose is to provide interested persons an opportunity to submit comments on the proposed actions.

Additions

If the Committee approves the proposed additions, the entities of the Federal Government identified in this notice will be required to procure the product(s) and service(s) listed below from nonprofit agencies employing persons who are blind or have other severe disabilities.

The following product(s) and service(s) are proposed for addition to the Procurement List for production by the nonprofit agencies listed:

Product(s)

NSN(s)—Product Name(s):

MR 10789—Pizza Slicer and Server, Includes Shipper 20789

MR 10790—Salad Saver, Includes Shipper 20790

MR 10791—Pot Lid Stand, Includes Shipper 20791

Designated Source of Supply: Winston-Salem Industries for the Blind, Inc., Winston-Salem, NC

Contracting Activity: Military Resale-Defense Commissary Agency

Service(s)

Service Type: Base Supply Center

Mandatory for: Vance Air Force Base, Vance AFB OK

Designated Source of Supply: NewView Oklahoma, Inc., Oklahoma City, OK

Contracting Activity: DEPT OF THE AIR FORCE, FA3029 71 FTW CVC VANCE AFB

Service Type: Base Supply Center

Mandatory for: Sierra Army Depot, Herlong CA

Designated Source of Supply: South Texas Lighthouse for the Blind, Corpus Christi, TX

Contracting Activity: DEPT OF THE ARMY, W6QK SIAD CONTR OFF

Service Type: Laundry Service

Mandatory for: US Army, Alabama Army National Guard, Montgomery, AL

Designated Source of Supply: Wiregrass Rehabilitation Center, Inc., Dothan, AL

Contracting Activity: DEPT OF THE ARMY, W7MT USPFO ACTIVITY AL ARNG

Service Type: Custodial and Related Services

Mandatory for: GSA PBS Region 5, John W. Bricker Federal Building Parking Garage, Columbus, OH

Designated Source of Supply: VGS, Inc., Cleveland, OH

Contracting Activity: PUBLIC BUILDINGS SERVICE, PBS R5

Michael R. Jurkowski,
Deputy Director, Business & PL Operations.

[FR Doc. 2021-00896 Filed 1-14-21; 8:45 am]

BILLING CODE 6353-01-P